DEPARTMENT OF DEFENSE

Office of the Secretary

[Transmittal No. 24-63]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6523, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-63, Policy Justification, and Sensitivity of Technology.

Dated: September 30, 2025.
Aaron T. Siegel,
Alternate OSD Federal Register Liaison Officer, Department of Defense.

BILLING CODE 6001-FR-P

BILLING CODE 6001-FR-C

Transmittal No. 24-63

Notice of Proposed Issuance of Letter of Offer Pursuant to Section 36(b)(1) of the Arms Export Control Act, as amended

(i) Prospective Purchaser: Government of Sweden

(ii) Total Estimated Value:

Major Defense Equipment * | $500 million
Other | $400 million
TOTAL | $900 million

(iii) Description and Quantity or Quantities of Articles or Services under Consideration for Purchase:

Major Defense Equipment (MDE):

Twelve (12) UH-60M Black Hawk helicopters

Thirty (30) T700-GE-701D engines (24 installed, 6 spares)

Seventeen (17) AN/AAR-57 common missile warning systems (CMWS)

Non-MDE:

The following is also included: AN/APR-39C(V)1/4 radar warning receivers; AN/AVR-2B laser detecting sets; AN/ARN-149(V) low frequency automatic direction finder radio receivers; AN/ARN-153 tactical air navigation systems (TACAN) receiver transmitters; AN/APN-209 radar altimeters; EBC-406HM emergency locator transmitters (ELT); Enhanced Ballistic Armor Protection Systems (EBAPS); Internal Auxiliary Fuel Tank Systems (IAFTS); Fast Rope Insertion Extraction Systems (FRIES); external rescue hoists (ERH); rescue hoist equipment sets; Martin Baker palletized crew chief and gunner seats with crashworthy floor structural modifications; aircraft fire extinguisher cartridge; impulse cartridge; thruster TCU-3/A; helmets; transportation; organizational equipment; spare and repair parts; support equipment; tools and test equipment; technical data and publications; personnel training and training equipment; U.S. Government and contractor engineering, technical, and logistics support services; and other related elements of logistics and program support.

(iv) Military Department: Army (SW-B-WBV)

(v) Prior Related Cases, if any: SW-B-WAD, SW-B-WBL, SW-B-WBN, SW-B-WBR, SW-B-WBS, SW-B-WBT, SW-B-WBU

(vi) Sales Commission, Fee, etc., Paid, Offered, or Agreed to be Paid: None

(vii) Sensitivity of Technology Contained in the Defense Article or Defense Services Proposed to be Sold: See Attached Annex

(viii) Date Report Delivered to Congress: May 29, 2024

* as defined in Section 47(6) of the Arms Export Control Act.

POLICY JUSTIFICATION

Sweden—UH-60M Black Hawk Helicopters

The Government of Sweden has requested to buy twelve (12) UH-60M Black Hawk helicopters; thirty (30) T700-GE-701D engines (24 installed, 6 spares); and seventeen (17) AN/AAR-57 common missile warning systems (CMWS). The following is also included: AN/APR-39C(V)1/4 radar warning receivers; AN/AVR-2B laser detecting sets; AN/ARN-149(V) low frequency automatic direction finder radio receivers; AN/ARN-153 tactical air navigation systems (TACAN) receiver transmitters; AN/APN-209 radar altimeters; EBC-406HM emergency locator transmitters (ELT); Enhanced Ballistic Armor Protection Systems (EBAPS); Internal Auxiliary Fuel Tank Systems (IAFTS); Fast Rope Insertion Extraction Systems (FRIES); external rescue hoists (ERH); rescue hoist equipment sets; Martin Baker palletized crew chief and gunner seats with crashworthy floor structural modifications; aircraft fire extinguisher cartridge; impulse cartridge; thruster TCU-3/A; helmets; transportation; organizational equipment; spare and repair parts; support equipment; tools and test equipment; technical data and publications; personnel training and training equipment; U.S. Government and contractor engineering, technical, and logistics support services; and other related elements of logistics and program support. The estimated total cost is $900 million.

This proposed sale will support the foreign policy goals and national security objectives of the United States by improving the security of a NATO Ally that is a force for political stability and economic progress in Europe.

The proposed sale will improve Sweden's capability to deter current and future threats and support coalition operations and the United States' and Sweden's goal of greater military interoperability. Sweden will have no difficulty absorbing this equipment into its armed forces.

The principal contractor will be Lockheed Martin, Sikorsky, located in Stratford, CT. There are no known offset agreements in connection with this potential sale.

Implementation of this proposed sale will require approximately fifteen (15) U.S. Government and/or fifteen (15) contractor representatives to travel to Sweden for an extended period for equipment de-processing/fielding, system checkout, training, and technical and logistics support.

There will be no adverse impact on U.S. defense readiness as a result of this proposed sale.

Transmittal No. 24-63

Notice of Proposed Issuance of Letter of Offer Pursuant to Section 36(b)(1) of the Arms Export Control Act

Annex

Item No. vii

(vii) Sensitivity of Technology:

1. The UH-60M Black Hawk helicopter is a medium lift four bladed aircraft powered by two (2) T-701D engines. The aircraft has four (4) multifunction displays (MFD) which provide aircraft system, flight, mission, and communication management information. The instrumentation panel includes four (4) MFDs, two (2) pilot and copilot Flight Director Panels, and two (2) Data Concentrator Units (DCUs). The navigation system will have embedded global positioning system/inertial navigation system (EGIs) and two (2) Advanced Flight Control Computer Systems (AFCC) which provide 4-axis aircraft control:

a. The AN/APR-39C(V)1/4 radar warning system detects radar-based rangefinders, target designators, and beam rider systems targeting an aircraft or vehicle. The APR-39 is a detection component of the suite of countermeasures designed to increase the survivability of current generation combat aircraft and specialized special operations aircraft against the threat posed by laser designated or guided weapons.

b. The AN/AVR-2B laser warning receiver detects laser rangefinders, target designators, and beam rider laser-aided systems targeting an aircraft or vehicle. The AN/AVR-2B is a detection component of the suite of countermeasures designed to increase the survivability of current generation combat aircraft and specialized special operations aircraft against the threat posed by laser designated or guided weapons.

c. The AN/AAR-57 common missile warning system (CMWS) is an integrated infrared countermeasures suite utilizing ultraviolet sensors to display accurate threat location and dispense countermeasures either automatically or under pilot or crew control to defeat incoming missile threats.

d. The EBC-406 emergency locator transmitter is loaded with country-unique codes that aid in the recovery of downed aircraft or personnel with a loud beeping tone and flashing LED. The ELT transmits on 406.028 MHz, the civil 121.5 MHz, and the military 243.0 MHz emergency frequencies.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Sweden can provide substantially the same degree of protection for the sensitive technology being released as the U.S. Government. This sale is necessary in furtherance of the U.S. foreign policy and national security objectives outlined in the Policy Justification.

5. All defense articles and services listed in this transmittal are authorized for release and export to Sweden.

[FR Doc. 2025-19374 Filed 10-1-25; 8:45 am]

BILLING CODE 6001-FR-P